DEPARTMENT OF TRANSPORTATION

Federal Aviation Administration

[Summary Notice No. PE-2001-24]

Petitions for Exemption; Summary of Petitions Received; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of certain dispositions of certain petitions previously received, and corrections. The purpose of this notice is to improve the public's awareness of, and participation in, this aspect of FAA's regulatory activities. Neither publication of this notice nor the inclusion or omission of information in the summary is intended to affect the legal status of any petition or its final disposition.

DATES: Comments on petitions received must identify the petition docket number involved and must be received on or before April 11, 2001.

ADDRESSES: Send comments on any petition in triplicate to: Federal Aviation Administration, Office of the Chief Counsel, Attn: Rule Docket (AGC-200), Petition Docket No. ____, 800 Independence Avenue, SW., Washington, DC 20591.

The petition, any comments received, and a copy of any final disposition are filed in the assigned regulatory docket and are available for examination in the Rules Docket (AGC-200), Room 915G, FAA Headquarters Building (FOB 10A), 800 Independence Avenue, SW., Washington, DC 20591; telephone (202) 267-3132.

FOR FURTHER INFORMATION CONTACT: Forest Rawls (202) 267-8033, or Vanessa Wilkins (202) 267-8029 Office of Rulemaking (ARM-1), Federal Aviation Administration, 800 Independence Avenue, SW., Washington, DC 20591.

This notice is published pursuant to §§ 11.85 and 11.91.

Issued in Washington, D.C., on March 16, 2001.
Donald P. Byrne,
Assistant Chief Counsel for Regulations.

Dispositions of Petitions

Docket No.: 28257.

Petitioner: Flight Structures, Inc.

Section of the 14 CFR Affected: 14 CFR 25.785(d), 25.813(b), 25.857(e), and 25.1447(c)(1) & (c)(3)(ii).

Description of Relief Sought/Disposition: To permit supplemental type certification of Airbus Model A300-B4-100 series and -200 series passenger-to-freighter airplane conversions, with provisions for the carriage of air traffic controllers and technical representatives of the manufacturer (of the airplane or its components) when the airplane is equipped with two floor-level exits with escape slides, within the occupied main deck area. Grant, 02/20/2001, Exemption No. 6178C.

Docket No.: 29003.

Petitioner: Columbia Helicopters, Inc.

Section of the 14 CFR Affected: 14 CFR 135.175(a).

Description of Relief Sought/Disposition: To permit CHI to operate Boeing Vertol and Kawasaki Vertol 107II (BV/Bk-107II) rotorcraft in on-demand, passenger-carrying operations, under part 135, in day visual flight rules (VFR) conditions, without having approved airborne weather radar equipment installed. Denial, 03/08/2001, Exemption No. 7456.

[FR Doc. 01-7065 Filed 3-21-01; 8:45 am]

BILLING CODE 4910-13-M